DEPARTMENT OF TRANSPORTATION

Federal Aviation Administration

14 CFR Part 71

[Airspace Docket No. 00-ACE-19]

Amendment to Class E Airspace; Atwood, KS; Correction

AGENCY: Federal Aviation Administration, DOT.

ACTION: Direct final rule; request for comments and correction.

SUMMARY: This document corrects an error in the latitude of the Atwood Nondirectional Radio Beacon (NDB) and the bearing from the Atwood NDB in the airspace description for the Atwood-Rawlins County, City-County Airport, Atwood, KS. This action revises the Class E airspace, corrects an error in the latitude of the Atwood NDB, and corrects the NDB bearing in the airspace designation for Atwood-Rawlins County-City County Airport as published in the Federal Register July 14, 2000 (65 FR 43684), Airspace Docket No. 00-ACE-19.

DATES: The direct final rule, request for comments published at 65 FR 43684 is effective on 0901 UTC, November 30, 2000.

This correction is effective on November 30, 2000.

Comment Date: Comments must be received on or before September 5, 2000.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

On July 14, 2000, the FAA published in the Federal Register a direct final rule; request for comments which revises the Class E airspace at Atwood, KS (FR document 00-17870, 65 FR 43684, Airspace Docket No. 00-ACE-19). An error was subsequently discovered in the latitude of the Atwood NDB and the bearing in the airspace designation for Atwood-Rawlins County, City-County Airport. This action corrects those errors. After careful review of all available information related to the subject presented above, the FAA has determined that air safety and the public interest require adoption of the rule. The FAA has determined that this correction will not change the meaning of the action nor add any additional burden on the public beyond that already published. This action corrects the error in the Atwood NDB latitude and the airspace designation.

The FAA uses the direct final rulemaking procedure for a non-controversial rule where the FAA believes that there will be no adverse public comment. The direct final rule; request for comments advised the public that no adverse comments were anticipated, and that unless a written adverse comment, or a written notice of intent to submit such an adverse comment, were received within the comment period, the regulation would become effective on November 30, 2000.

Correction to the Direct Final Rule; Request for Comments

Accordingly, pursuant to the authority delegated to me, the airspace designation for Atwood-Rawlins County City-County Airport, as published in the Federal Register on July 14, 2000 (65 FR 43684), (Federal Register Document 00-17870; page 43686, column one) is corrected as follows:

§ 71.1 [Corrected]

ACE KS E5 Atwood, KS [Corrected]

On page 43686, in the first column under Atwood NDB remove latitude 39°50′20″ N. and substitute 39°50′19″ N., and in line five of the airspace designation, correct the airspace designation by removing “258” and adding “358”.

Issued in Kansas City, MO on July 27, 2000.
Herman J. Lyons, Jr.,
Manager, Air Traffic Division, Central Region.

[FR Doc. 00-20167 Filed 8-8-00; 8:45 am]

BILLING CODE 4910-13-M